NATIONAL AERONAUTICS AND SPACE ADMINISTRATION

[Notice (03-095)]

NASA Advisory Council, Minority Business Resource Advisory Committee; Meeting

AGENCY: National Aeronautics and Space Administration (NASA).

ACTION: Notice of meeting.

SUMMARY: In accordance with the Federal Advisory Committee Act, Pub. L. 92-463, as amended, the National Aeronautics and Space Administration announce a forthcoming meeting of the NASA Advisory Council (NAC), Minority Business Resource Advisory Committee.

DATES: Thursday, September 11, 2003, 9 a.m. to 4 p.m., and Friday, September 12, 2003, 9 a.m. to 12 Noon.

ADDRESSES: NASA Headquarters, 300 E. Street, SW., Room 9H40, Washington, DC 20546.

FOR FURTHER INFORMATION CONTACT: Mr. Ralph C. Thomas III, Code K, National Aeronautics and Space Administration, (202) 358-2088.

SUPPLEMENTARY INFORMATION: The meeting will be open to the public up to the seating capacity of the room. The agenda for the meeting is as follows:

• Review of Previous Meeting;

• Office of Small and Disadvantaged Business Utilization Update of Activities;

• NAC Meeting Report;

• Overview of Agency-wide initiatives;

• Update of Small Business Program;

• Public Comment;

• Panel Discussion and Review;

• Committee Panel Reports;

• Status of Open Committee Recommendations; and

• New Business.

Attendees will be requested to sign a register and to comply with NASA security requirements, including the presentation of a valid picture ID, before receiving an access badge. Foreign nationals attending this meeting will be required to provide the following information: full name; gender; date/place of birth; citizenship; employee/affiliation information (name of institution, address, country, phone); title/position of attendee. To expedite admittance, attendees can provide identifying information in advance by contacting Mr. Lamont Hames via e-mail at lhames@hq.nasa.gov or by telephone at 202-358-2088. Attendees will be escorted at all times.

It is imperative that the meeting be held on this date to accommodate the scheduling priorities of the key participants.

Visitors will be requested to sign a visitor's register.

Members of the press who have questions about these procedures should contact the NASA Headquarters newsroom (202-358-1600).

June Edwards,
Advisory Committee Management Officer, National Aeronautics and Space Administration.

[FR Doc. 03-21816 Filed 8-25-03; 8:45 am]

BILLING CODE 7510-01-M